DEPARTMENT OF ENERGY

Federal Energy Regulatory Commission

[Docket No. CP00-174-000]

Kinder Morgan Interstate Gas Transmission LLC; Notice of Application

April 20, 2000.

Take notice that on April 11, 2000, Kinder Morgan Interstate Gas Transmission LLC (KMIGT), P.O. Box 281304, Lakewood, Colorado 80228-8304, filed in Docket No. CP00-174-000 an application pursuant to Section 7(b) of the Natural Gas Act for permission and approval to abandon certain facilities located in the States of Texas and Oklahoma comprising the eastern portion of KMIGT's Buffalo Wallow Pipeline System by sale to OkTex Pipeline Company (OkTex), an affiliate/division of ONEOK, Inc., as more fully set forth in the application while is on file with the Commission and open to public inspection. This filing may be viewed on the web at http://www.ferc.fed.us/online/rims.htm (call 202-208-2222 for assistance).

KMIGT proposes to abandon to OkTex the eastern portion of the Buffalo Wallow Pipeline System extending from milepost 11.4 located in Hemphill County, Texas, to the Aledo delivery point located in Oklahoma. It is stated that the eastern portion consists of 52.5 miles of 20-inch pipe and interconnects with various other pipelines located in Hemphill County, Texas, and Roger Mills, Custer, and Dewey Counties, Oklahoma.

KMIGT declares that OkTex will be separately filing an application to acquire and operate the subject facilities proposed to be abandoned by KMIGT to OkTex. KMIGT states that OkTex has agreed to assume all service obligations and economic responsibilities for the subject facilities. KMIGT asserts that upon approval of the authorization requested herein, OkTex will operate the facilities as an additional segment of its interstate pipeline system and will provide open access transportation service to shippers requesting service on these facilities pursuant to the terms and conditions of its FERC Gas Tariff.

KMIGT states that the facilities to be sold to OkTex will be conveyed at $700,000, which will be adjusted for certain additional capital expenditures, if any, incurred by KMIGT on the subject facilities prior to the closing date of the sale of these assets.

Any questions regarding the application should be directed to Bentley W. Breland, Vice President, Certificates and Rates, at (303) 763-3581, Kinder Morgan Interstate Gas Transmission LLC, P.O. Box 281304, Lakewood, Colorado 80228-8304.

Any person desiring to be heard or to make any protest with reference to said Application should on or before May 11, 2000, file with the Federal Energy Regulatory Commission, 888 First Street, N.E., Washington, D.C. 20426, a motion to intervene or a protest in accordance with the requirements of the Commission's Rules of Practice and Procedure (18 CFR 385.211 of 18 CFR 385.214) and the Regulations under the Natural Gas Act (18 CFR 157.10). All protests filed with the Commission will be considered by it in determining the appropriate action to be taken but will not serve to make the protestants parties to the proceeding. Any person wishing to become a party to a proceeding or to participate as a party in any hearing therein must file a motion to intervene in accordance with the Commission's Rules.

Take further notice that pursuant to the authority contained in and subject to the jurisdiction conferred upon the Commission by Sections 7 and 15 of the Natural Gas Act and the Commission's Rules of Practice and Procedure, a hearing will be held without further notice before the Commission or its designee on this Application if no petition to intervene is filed within the time required herein, if the Commission on its own review of the matter finds that a grant of the abandonment is required by the public convenience and necessity. If a petition for leave to intervene is timely filed, or if the Commission, on its own motion believes that a formal hearing is required, further notice of such hearing will be duly given.

Under the procedure herein provided for, unless otherwise advised, it will be unnecessary for Applicant to appear or be represented at the hearing.

David P. Boergers,
Secretary.

[FR Doc. 00-10330 Filed 4-25-00; 8:45 am]

BILLING CODE 6717-01-M